DEPARTMENT OF TRANSPORTATION

Office of the Secretary

Notice of Applications for Certificates of Public Convenience and Necessity and Foreign Air Carrier Permits Filed Under Subpart B (Formerly Subpart Q) During the Week Ending March 7, 2008

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0084.

Date Filed: March 7, 2008.

Due Date for Answers, Conforming Applications, or Motion to Modify Scope: March 28, 2008.

Description:

Application of Colgan Air, Inc. requesting a certificate of public convenience and necessity to engage in scheduled foreign air transportation of persons, property and mail between (i) a point or points in the United States and a point or points in all countries with existing “Open Skies” Air Services Agreements with the United States (“U.S. open-skies partner”), via intermediate points and beyond; and (ii) a point or points in the United States and a point or points in all countries that in the future become U.S. open-skies partners, via intermediate points and beyond.

Renee V. Wright,
Program Manager, Docket Operations Federal Register Liaison.

[FR Doc. E8-11354 Filed 5-20-08; 8:45 am]

BILLING CODE 4910-9X-P